CHEMICAL SAFETY AND HAZARD INVESTIGATION BOARD

Sunshine Act Meeting

TIME AND DATE: June 18, 2015, 9:30 a.m.-1:00 p.m. EDT.

PLACE: U.S. Chemical Safety Board, 2175 K St. NW., 4th Floor Conference Room, Washington, DC 20037.

STATUS: Open to the public.

MATTERS TO BE CONSIDERED: The Chemical Safety and Hazard Investigation Board (CSB) will convene a public meeting on June 18, 2015, starting at 9:30 a.m. at the CSB's headquarters, located at 2175 K St. NW., 4th Floor Conference Room, Washington, DC 20037. The meeting will focus on the Proposed Rule to amend 40 CFR 1600—Organization and Functions of the Chemical Safety and Hazard Investigation Board. This proposed rule (80 FR 27276 (May 13, 2015)), which was considered and approved during the CSB's May 6, 2015, public meeting, adds a requirement to the CSB's internal administrative rules for the Chairperson to add notation votes that have been calendared for public discussion to the agenda of a public meeting within 90 days of the calendared notation vote. The proposed rule also adds a requirement for the Chairperson, or in the absence of a Chairperson, a member designated by the Board, to schedule a minimum of four public meetings per year in Washington, DC. The CSB is accepting comments on the proposed rule until June 12, 2015. The agenda may also include Board discussion and vote(s) on motions related to Board governance when there is a vacancy in the Chairperson position.

Additional Information

The meeting is free and open to the public. If you require a translator or interpreter, please notify the individual listed below as the “Contact Person for Further Information,” at least three business days prior to the meeting.

If you are unable to attend the meeting in person, you may participate via phone. Please dial the phone number five minutes prior to the start of the conference call and provide the confirmation number. The phone number is: 1-877-691-2551 (U.S. Toll Free), or 1-630-691-2747 (U.S. Toll), with confirmation number: 39853839.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to five minutes or less, but commenters may submit written statements for the record.

Contact Person for Further Information

Hillary J. Cohen, Communications Manager, hillary.cohen@csb.gov or (202) 446-8094. Further information about this public meeting can be found on the CSB Web site at: www.csb.gov.

Dated: June 3, 2015.
Mark Griffon,
Board Member.

[FR Doc. 2015-14058 Filed 6-4-15; 4:15 pm]

BILLING CODE 6350-01-P